DEPARTMENT OF TRANSPORTATION

Federal Aviation Administration

14 CFR Part 33

[Amendment No. 33-32]

Technical Amendment; Airworthiness Standards—Aircraft Engines

AGENCY: Federal Aviation Administration (FAA), DOT.

ACTION: Final rule; technical amendment.

SUMMARY: This amendment corrects a number of errors in the airworthiness standards for aircraft engine endurance tests. None of the changes are substantive in nature, and none will impose any additional burden on any person.

DATE: Effective Date: This amendment becomes effective April 13, 2012.

FOR FURTHER INFORMATION CONTACT: For technical questions concerning this action, contact Dorina Mihail, Federal Aviation Administration, Engine and Propeller Directorate, Standards Staff, ANE-110, 12 New England Executive Park, Burlington, Massachusetts 01803-5229; (781) 238-7153; facsimile: (781) 238-7199; email: dorina.mihail@faa.gov.

For legal questions concerning this action, contact Vincent Bennett, Federal Aviation Administration, Office of Regional Counsel, ANE-7, 12 New England Executive Park, Burlington, Massachusetts 01803-5299; telephone (781) 238-7044; fax (781) 238-7055; email vincent.bennett@faa.gov.

SUPPLEMENTARY INFORMATION:

Background

A number of inadvertent editing errors in the airworthiness standards of § 33.87 have been identified by the FAA. Some errors apply to the standards for one engine inoperative (OEI) ratings for rotorcraft turbine engines. Others are simply plain language errors. This technical amendment corrects those errors in § 33.87. None of the corrections are substantive in nature, and none will impose any additional burden on any person.

List of Subjects 14 CFR Part 33

Air transportation, Aircraft, Aviation safety, Safety.

The Amendment

In consideration of the following, the Federal Aviation Administration amends part 33 of Title 14, Code of Federal Regulations, as follows:

PART 33—AIRWORTHINESS STANDARDS: AIRCRAFT ENGINES

1. The authority citation for part 33 continues to read as follows:

Authority: 49 U.S.C. 106(g), 40113, 44701-44702, 44704.

§ 33.87 [Amended]

2. Amend § 33.87 as follows:

a. Remove the word “Administrator” from paragraphs (a)(1) and (b)(1) and add the word “FAA” in its place.

b. Remove the word “manufacturer” from paragraphs (b)(1), (c)(1), (d)(1), and (e)(1) wherever it appears and add the word “applicant” in its place.

c. Remove the phrase “power and thrust” from paragraphs (b)(1), (b)(2) heading, (b)(2)(i), (b)(2)(ii), (b)(3), (b)(4) and (b)(5) wherever it appears and add the phrase “power or thrust” in its place.

d. Remove the phrase “rotor speed, power, and thrust” from paragraph (b)(1) and add the phrase “rotor speed and power or thrust” in its place.

e. Remove the word “poition” from paragraph (b)(5) and add the word “position” in its place.

f. Remove the phrase “(c)(5)” from paragraph (c)(1) and add the phrase “(c)(6)” in its place.

g. Remove the phrase “(c)(5)” from paragraph (d)(1) and add the phrase “(d)(6)” in its place.

h. Remove the phrase “(d)(6) of this section” from paragraph (e)(1) and add the phrase “(b)(5), (c)(6), or (d)(6) of this section, as applicable” in its place.

i. Remove the phrase “(c)(2) through (c)(6)” from paragraph (e)(2) and add the phrase “(c)(2) through (c)(7)” in its place.

j. Remove the phrase “paragraph (c)(2)” from paragraph (e)(2) and add the phrase “paragraph (c)(4)” in its place.

Issued in Washington, DC, on April 9, 2012.
Pamela Hamilton-Powell,
Director, Office of Rulemaking.

[FR Doc. 2012-8984 Filed 4-12-12; 8:45 am]

BILLING CODE 4910-13-P